DEPARTMENT OF TRANSPORTATION

Federal Aviation Administration

Notice of Availability of a Record of Decision (ROD) and a Written Reevaluation for the Evaluation of New Information Regarding an Aviation Easement and Tree Trimming/Removal at Cleveland Hopkins International Airport, Cleveland, Ohio

AGENCY: Federal Aviation Administration, DOT.

ACTION: Notice of availability of a ROD and a Written Reevaluation for the evaluation of new information regarding an avigation easement and tree trimming/removal at Cleveland Hopkins International Airport, Cleveland, Ohio.

SUMMARY: The Federal Aviation Administration (FAA) is making available a ROD and a Written Evaluation for new information concerning an avigation easement and tree trimming/removal at Cleveland Hopkins International Airport, Cleveland, Ohio.

Point of Contact: Mr. Ernest Gubry, Environmental Protection Specialist, FAA Great Lakes Region, Detroit Airports District Office, 11677 South Wayne Road, Suite 107, Romulus, MI 48174 (734) 229-2905.

SUPPLEMENTARY INFORMATION: The FAA is making available a ROD and a Written Reevaluation of new information an avigation easement and trimming/removal at Cleveland Hopkins International Airport, Cleveland, Ohio. The purpose of the ROD and Written Reevaluation was to evaluate potential environmental impacts arising from Cleveland Metroparks issuance an authorization for an easement for tree trimming/removal on their property.

These documents will be available during normal business hours at the following locations: FAA Detroit Airports District Office, 11677 South Wayne Road, Suite 107, Romulus, MI 48174; FAA Airports Division Office, 2300 East Devon Ave., Des Plaines, IL 60018; Cleveland Hopkins International Airport, 5300 Riverside Drive, Cleveland, OH 44135.

Due to current security requirements, arrangements must be made with the point of contact prior to visiting these offices.

Issued in Detroit, Michigan, July 19, 2004.
Irene R. Porter,
Manager, Detroit Airport District Office, FAA, Great Lakes Region.

[FR Doc. 04-17533 Filed 7-30-04; 8:45 am]

BILLING CODE 4910-13-M